COMMODITY FUTURES TRADING COMMISSION

Meeting of Technology Advisory Committee

AGENCY: Commodity Futures Trading Commission (“CFTC”).

ACTION: Notice.

SUMMARY: The CFTC announces that on Tuesday, October 30, 2012, its Technology Advisory Committee (TAC) will hold a public meeting in Chicago at the Hilton Chicago, 720 South Michigan Ave., Chicago, Illinois, 60605, from 9:00 a.m. to 5:00 p.m. The TAC will have presentations on the definition for High Frequency Trading (HFT) from its Subcommittee on Automated and High Frequency Trading, and presentations on technology solutions for both protecting customer funds, and solutions related to futures commission merchant (FCM) and designated contract market (DCM) risk management.

DATES: The meeting will be held on October 30, 2012, from 10:00 a.m. to 5:00 p.m. Members of the public who wish to submit written statements in connection with the meeting should submit them by October 29, 2012.

ADDRESSES: The meeting will take place in Chicago at the Hilton Chicago, 720 South Michigan Ave., Chicago, Illinois, 60605. Written statements should be submitted to: Commodity Futures Trading Commission, Three Lafayette Centre, 1155 21st Street NW., Washington, DC 20581, attention: Office of the Secretary. Please use the title “Technology Advisory Committee” in any written statement submitted. Any statements submitted in connection with the committee meeting will be made available to the public.

FOR FURTHER INFORMATION CONTACT: Bella Rozenberg, Commodity Futures Trading Commission, Three Lafayette Centre, 1155 21st Street NW., Washington, DC 20581, (202) 418-5119.

SUPPLEMENTARY INFORMATION: The CFTC has determined that holding the announced TAC meeting is in the public interest in connection with the duties imposed on the CFTC by the Commodity Exchange Act, 7 U.S.C. 1-26, as amended. Therefore, the meeting is being announced with less than the 15 calendar days' notice provided by 41 CFR 102-3.150(b). The TAC meeting will focus on three significant issues facing the futures and swaps industries as the Commission continues to finalize rules under the Dodd Frank Act. Those issues are: (1) HFT definitions; (2) protecting customer funds; and (3) FCM and DCM risk management. The meeting will be open to the public with seating on a first-come, first-served basis. Members of the public who wish to listen to the meeting by telephone may do so by calling a toll-free telephone line to contact to a live, listen-only audio feed. Call-in participants should be prepared to provide their first name, last name and affiliation. Additionally, a video recording of the meeting will be published through a link on the CFTC's Web site.

All written submissions provided to the CFTC in any form will also be published on the Web site of the CFTC.

Domestic Toll Free: 1-866-844-9416.

International Toll: Under Related Documents to be posted on www.cftc.gov.

Conference ID: 6403947.

Call Leader Name: Michael Jones.

Pass Code/Pin Code: CFTC.

Authority: 5 U.S.C. app. 2 § 10(a)(2).

By the Commodity Futures Trading Commission.
Dated: October 19, 2012.
Sauntia S. Warfield,
Assistant Secretary of the Commission.

[FR Doc. 2012-26173 Filed 10-23-12; 8:45 am]

BILLING CODE 6351-01-P